DEPARTMENT OF DEFENSE

Office of the Secretary

Renewal of Department of Defense Federal Advisory Committees—Defense Health Board

AGENCY: Department of Defense (DoD).

ACTION: Renewal of Federal advisory committee.

SUMMARY: The DoD is publishing this notice to announce that it is renewing the Defense Health Board (DHB).

FOR FURTHER INFORMATION CONTACT: Jim Freeman, Advisory Committee Management Officer for the Department of Defense, 703-697-1142.

SUPPLEMENTARY INFORMATION: The DHB is being renewed in accordance with chapter 10 of title 5, United States Code (U.S.C.) (commonly referred to as the “Federal Advisory Committee Act” or “FACA”) and 41 Code of Federal Regulations (CFR) chapter 102-3.50(d). The charter and contact information for the DHB's Designated Federal Officer (DFO) are found at https://www.facadatabase.gov/FACA/apex/FACAPublicAgencyNavigation.

The DHB provides independent advice and recommendations to maximize the safety and quality of, as well as access to, health care for DoD health care beneficiaries. The DHB will focus on matters pertaining to: (a) DoD health care policy and program management; (b) the delivery of high-quality health care services to DoD beneficiaries; (c) the promotion of health, wellness, and prevention within the DoD; (d) the treatment of disease and injury by the DoD; (e) health research priorities; and (f) other health-related matters of special interest to the DoD, as determined by the Secretary of Defense of the Deputy Secretary of Defense (“the DoD Appointing Authority”), or the Under Secretary of Defense for Personnel and Readiness (USD(P&R)). All DHB work will be in response to written terms of reference (ToR) approved by the DoD Appointing Authority or the USD(P&R), unless otherwise provided in statute or Presidential directive.

The DHB shall be composed of no more than 20 members, and as determined by the DoD Appointing Authority, the DHB's total parent-level and subcommittee-level membership cannot exceed 50 members unless otherwise directed by the DoD Appointing Authority. Membership will consist of private and public health care leaders with a diversity of background, experience, and thought in support of the DHB mission in one or more of the following disciplines: health systems, clinical health care, infectious disease, public health, trauma medicine, beneficiary representation, heal the informatics, patient care safety/quality care, neuroscience, and/or behavioral health.

The appointment or designation of DHB members to the DHB shall be approved by the DoD Appointing Authority for a term of service of one-to-four years, with annual renewals, in accordance with DoD policy and procedures. No member, unless approved by the DoD Appointing Authority, may serve more than two consecutive terms of service on the DHB, to include its subcommittees, or serve on more than two DoD Federal advisory committees at one time. The DoD Appointing Authority shall appoint the DHB's leadership from among the membership previously approved to serve on the DHB, in accordance with DoD policy and procedures, for a leadership term of service of one-to-two years, with annual renewal, not to exceed the member's approved DHB appointment.

DHB members who are not full-time or permanent part-time Federal civilian officers or employees, or active-duty members of the Uniformed Services, shall be appointed as experts or consultants pursuant to 5 U.S.C. 3109 to serve as special government employee (SGE) members. DHB members who are full-time or permanent part-time Federal civilian officers or employees, or active-duty members of the Uniformed Services, shall be designated pursuant to 41 CFR 102-3.130(a) to serve as regular government employee (RGE) members. The DoD Appointing Authority shall appoint the DHB's leadership from among the membership previously approved to serve on the DHB in accordance with DoD policy and procedures, for a term of service of one-to-two years, with annual renewal, which shall not exceed the member's approved DHB appointment or designation.

DHB members are appointed or designated to exercise their own best judgment on behalf of the DoD, without representing any particular points of view, and to discuss and deliberate in a manner that is free from conflicts of interest. Except for reimbursement of official DHB-related travel and per diem, DHB members serve without compensation.

The public or interested organizations may submit written statements to the DHB about the DHB's mission and functions. Written statements may be submitted at any time or in response to the stated agenda of planned meeting of the DHB. All written statements shall be submitted to the DFO for the DHB, and this individual will ensure that the written statements are provided to the membership for their consideration.

Dated: November 25, 2024.
Aaron T. Siegel,
Alternate OSD Federal Register Liaison Officer, Department of Defense.

[FR Doc. 2024-28059 Filed 11-27-24; 8:45 am]

BILLING CODE 6001-FR-P